DEPARTMENT OF EDUCATION

Applications, Reports, and Other Records for the 2012-2013 Award Year

AGENCY: Federal Student Aid, Department of Education.

ACTION: Notice.

Overview Information: Applications, Reports, and Other Records for the 2012-2013 Award Year; Student Assistance General Provisions, Federal Supplemental Educational Opportunity Grant, Federal Work-Study, Federal Perkins Loan, Federal Pell Grant, William D. Ford Federal Direct Loan, Teacher Education Assistance for College and Higher Education (TEACH) Grant, and Iraq and Afghanistan Service Grant Programs.

Catalog Federal Domestic Assistance (CFDA) Numbers: 84.007 Federal Supplemental Educational Opportunity Grant Program; 84.033 Federal Work-Study Programs; 84.038 Federal Perkins Loan Program; 84.063 Federal Pell Grant Program; 84.268 William D. Ford Federal Direct Loan Program; 84.379 TEACH Grant Program; 84.408 Iraq and Afghanistan Service Grant Program.

SUMMARY: The Secretary announces deadline dates for the receipt of documents and other information from institutions and applicants for the Federal student aid programs authorized under title IV of the Higher Education Act of 1965, as amended, for the 2012-2013 award year. The Federal student aid programs include the Federal Supplemental Educational Opportunity Grant (FSEOG), Federal Work-Study (FWS), Federal Perkins Loan, Federal Pell Grant, William D. Ford Federal Direct Loan (Direct Loan), Teacher Education Assistance for College and Higher Education (TEACH) Grant, and Iraq and Afghanistan Service Grant Programs.

These programs, administered by the U.S. Department of Education (Department), provide financial assistance to students attending eligible postsecondary educational institutions to help them pay their educational costs.

Deadline and Submission Dates: See Tables A, B, and C at the end of this notice.

Table A—Deadline Dates for Application Processing and Receipt of Institutional Student Information Records (ISIRs) or Student Aid Reports (SARs) by Institutions for the 2012-2013 Award Year

Table A provides information and deadline dates for application processing, including deadlines for receipt of the Free Application for Federal Student Aid (FAFSA); corrections to and signatures for the FAFSA, ISIRs, and SARs; and verification documents.

The deadline date for the receipt of a FAFSA by the Department's Central Processing System is June 30, 2013, regardless of the method that the applicant uses to submit the FAFSA. The deadline date for the receipt of a signature page for the FAFSA (if required), correction, notice of change of address or school, or request for a duplicate SAR is September 21, 2013. Verification documents must be received by the institution no later than the earlier of 120 days after the student's last date of enrollment for the 2012-2013 award year or September 28, 2013. As a reminder, verification is not required for unsubsidized Direct Stafford Loans and PLUS Loans, TEACH Grants, and Iraq and Afghanistan Service Grants.

For all Federal student aid programs, an ISIR or SAR must be received by the institution no later than the earlier of the student's last date of enrollment for the 2012-2013 award year or September 28, 2013. For all Federal student aid programs, except for Direct PLUS Loans made to parent borrowers, an ISIR or SAR with an official expected family contribution must be received by the institution no later than the earlier of the student's last date of enrollment for the 2012-2013 award year or September 28, 2013. For the Federal Pell Grant, FSEOG, FWS, and Federal Perkins Loan Programs and for Direct Subsidized Loans, for a student not meeting the conditions for a late disbursement, a valid ISIR or SAR must be received no later than the earlier of the student's last date of enrollment for the 2012-2013 award year or September 28, 2013. For a student meeting the conditions for a late disbursement under these programs or loans, a valid ISIR or SAR must be received by the deadlines provided in Table A.

In accordance with 34 CFR 668.164(g)(4)(i), an institution may not make a late disbursement of title IV student assistance funds later than 180 days after the date of the institution's determination that the student withdrew, as provided in 34 CFR 668.22, or, for a student who did not withdraw, 180 days after the date the student otherwise became ineligible. Table A provides that, to make a late disbursement of title IV student assistance funds, an institution must receive a valid ISIR or valid SAR no later than 180 days after its determination of a student's withdrawal or, for a student who did not withdraw, 180 days after the date the student otherwise became ineligible, but not later than September 28, 2013.

Table B—Federal Pell Grant Program and Iraq and Afghanistan Service Grant Program Submission Dates for Disbursement Information by Institutions for the 2012-2013 Award Year

Table B provides the earliest submission and deadline dates for institutions to submit Federal Pell Grant and Iraq and Afghanistan Service Grant disbursement records to the Department's Common Origination and Disbursement (COD) System and deadline dates for an institution's request for administrative relief if it cannot meet the established deadline for specified reasons.

For disbursements (or adjustments to previously made disbursements) made prior to April 1, 2013, an institution must submit Federal Pell Grant or Iraq and Afghanistan Service Grant disbursement records, as applicable, no later than 30 days after making the disbursement or becoming aware of the need to adjust a student's previously reported Federal Pell Grant or Iraq and Afghanistan Service Grant disbursement.

For disbursements (or adjustments to previously made disbursements) made on or after April 1, 2013, an institution must submit Federal Pell Grant or Iraq and Afghanistan Service Grant disbursement records, as applicable, no later than 15 days after making the disbursement or becoming aware of the need to adjust a student's previously reported Federal Pell Grant or Iraq and Afghanistan Service Grant disbursement. In accordance with the regulations in 34 CFR 668.164, we consider that Federal Pell Grant and Iraq and Afghanistan Service Grant funds are disbursed on the date that the institution: (a) credits those funds to a student's account in the institution's general ledger or any subledger of the general ledger, or (b) pays those funds to a student directly. We consider that Federal Pell Grant and Iraq and Afghanistan Service Grant funds are disbursed even if an institution uses its own funds in advance of receiving program funds from the Department.

An institution's failure to submit disbursement records within the required timeframe may result in the Secretary rejecting all or part of the reported disbursement. In addition, such failure may result in an audit or program review finding. In addition, the Secretary may initiate an adverse action, such as a fine or other penalty for such failure, in accordance with subpart G of part 668.

Table C—William D. Ford Federal Direct Loan (Direct Loan) Program and Teacher Education Assistance for College and Higher Education (TEACH) Grant Program Submission Dates for Disbursement Information by Institutions for the 2012-2013 COD Processing Year

Table C provides the earliest submission and deadline dates for institutions to submit Direct Loan and TEACH Grant disbursement records to the Department's COD System.

For disbursements (or adjustments to previously made disbursements) made prior to April 1, 2013, an institution must submit Direct Loan or TEACH Grant disbursement records no later than 30 days after making a Direct Loan or TEACH Grant disbursement, or becoming aware of the need to adjust a student's previously reported Direct Loan or TEACH Grant disbursement.

For disbursements (or adjustments to previously made disbursements) made on or after April 1, 2013, an institution must submit Direct Loan or TEACH Grant disbursement records no later than 15 days after making a Direct Loan or TEACH Grant disbursement or becoming aware of the need to adjust a student's previously reported Direct Loan or TEACH Grant disbursement. In accordance with 34 CFR 668.164, we consider that Direct Loan and TEACH Grant funds are disbursed on the date that the institution: (a) Credits those funds to a student's account in the institution's general ledger or any subledger of the general ledger, or (b) pays those funds to a student directly. We consider that Direct Loan and TEACH Grant funds are disbursed even if an institution uses its own funds in advance of receiving program funds from the Department. An institution's failure to submit disbursement records within the required timeframe may result in an audit or program review finding. In addition, the Secretary may initiate an adverse action, such as a fine or other penalty for such failure.

Other Sources for Detailed Information

We publish a detailed discussion of the Federal student aid application process in the 2012-2013 Federal Student Aid Handbook and in the 2012-2013 ISIR Guide.

Additional information on the institutional reporting requirements for the Federal Pell Grant Program, Iraq and Afghanistan Service Grant Program, Direct Loan Program, and TEACH Grant Program is contained in the 2012-2013 COD Technical Reference.

You may access these publications by selecting the “iLibrary” link at the Information for Financial Aid Professionals Web site at: www.ifap.ed.gov.

Applicable Regulations: The following regulations apply:

(1) Student Assistance General Provisions, 34 CFR part 668.

(2) Federal Pell Grant Program, 34 CFR part 690.

(3) William D. Ford Direct Loan Program, 34 CFR part 685.

(4) Teacher Education Assistance for College and Higher Education Grant Program, 34 CFR 686.

FOR FURTHER INFORMATION CONTACT: Ian Foss, U.S. Department of Education, Federal Student Aid, 830 First Street NE., Union Center Plaza, room 114I1, Washington, DC 20202-5345. Telephone: (202) 377-3681 or by email: ian.foss@ed.gov.

If you use a telecommunications device for the deaf (TDD) or text telephone (TTY), call the Federal Relay Service, toll free, at 1-800-877-8339.

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 1070a, 1070a-1, 1070b-1070b-4, 1070g, 1070h, 1087a-1087j, and 1087aa-1087ii; 42 U.S.C. 2751-2756b.

Dated: February 25, 2013.
James W. Runcie,
Chief Operating Officer, Federal Student Aid.

Table A—Deadline Dates for Application Processing and Receipt of Institutional Student Information Records (ISIRs) or Student Aid Reports (SARs) by Institutions for the 2012-2013 Award Year
Who submits? | What is submitted? | Where is it submitted? | What is the deadline date for receipt?
Student | Free Application for Federal Student Aid (FAFSA)—“FAFSA on the Web” (original or renewal) | Electronically to the Department's Central Processing System (CPS) | June 30, 2013.¹
| Signature page (if required) | To the address printed on the signature page | September 21, 2013.
Student through an Institution | An electronic FAFSA (original or renewal) | Electronically to the Department's CPS | June 30, 2013.¹
Student | A paper original FAFSA | To the address printed on the FAFSA or envelope provided with the form | June 30, 2013.
Student | Electronic corrections to the FAFSA using “Corrections on the Web” | Electronically to the Department's CPS | September 21, 2013.¹
| Signature page (if required) | To the address printed on the signature page | September 21, 2013.
Student through an Institution | Electronic corrections to the FAFSA | Electronically to the Department's CPS | September 21, 2013.¹
Student | Paper corrections to the FAFSA using a SAR, including change of mailing and email addresses and change of institutions | To the address printed on the SAR | September 21, 2013.
Student | Change of mailing and email addresses, change of institutions, or requests for a duplicate SAR | To the Federal Student Aid Information Center by calling 1-800-433-3243 | September 21, 2013.
Student | SAR with an official expected family contribution (EFC) calculated by the Department's CPS (except for Parent PLUS) | To the institution | The earlier of: —The student's last date of enrollment; or —September 28, 2013.²
Student through CPS | ISIR with an official EFC calculated by the Department's CPS (except for Parent PLUS) | To the institution from the Department's CPS | The earlier of: —The student's last date of enrollment; or —September 28, 2013.²
Student Student through CPS | Valid SAR (Pell Grant, FSEOG, FWS, Perkins Loan, and Direct Subsidized Loans) Valid ISIR (Pell Grant, FSEOG, FWS, Perkins Loan, and Direct Subsidized Loans) | To the institution To the institution from the Department's CPS | Except for a student meeting the conditions for a late disbursement under 34 CFR 668.164(g), the earlier of: —The student's last date of enrollment; or —September 28, 2013.²
Student Student through CPS | Valid SAR (Pell Grant, FSEOG, FWS, Perkins Loan, and Direct Subsidized Loans) Valid ISIR (Pell Grant, FSEOG, FWS, Perkins Loan, and Direct Subsidized Loans) | To the institution To the institution from the Department's CPS | For a student receiving a late disbursement under 34 CFR 668.164(g)(4)(i), the earlier of: —180 days after the date of the institution's determination that the student withdrew or otherwise became ineligible; or —September 28, 2013.²
Student | Verification documents | To the institution | The earlier of: ³ —120 days after the student's last date of enrollment; or —September 28, 2013.²
¹ The deadline for electronic transactions is 11:59 p.m. (Central Time) on the deadline date. Transmissions must be completed and accepted before 12:00 midnight to meet the deadline. If transmissions are started before 12:00 midnight but are not completed until after 12:00 midnight, those transmissions do not meet the deadline. In addition, any transmission submitted on or just prior to the deadline date that is rejected may not be reprocessed because the deadline will have passed by the time the user gets the information notifying him or her of the rejection.
² The date the ISIR/SAR transaction was processed by CPS is considered to be the date the institution received the ISIR or SAR regardless of whether the institution has downloaded the ISIR from its SAIG mailbox or when the student submits the SAR to the institution.
³ Although the Secretary has set this deadline date for the submission of verification documents, if corrections are required, deadline dates for submission of paper or electronic corrections and, for a Federal Pell Grant and applicants selected for verification, the submission of a valid SAR or valid ISIR to the institution must still be met. An institution may establish an earlier deadline for the submission of verification documents for purposes of the campus-based programs and the Federal Direct Loan Program, but no later than this deadline date.

Table B—Federal Pell Grant Program and Iraq and Afghanistan Service Grant Program Submission Dates for Disbursement Information by Institutions for the 2012-2013 Award Year
Who submits? | What is submitted? | Where is it submitted? | What are the earliest disbursement, submission, and deadline dates for receipt?
Institutions | At least one acceptable disbursement record must be submitted for each Federal Pell Grant recipient and Iraq and Afghanistan Service Grant recipient at the institution | For the Federal Pell Grant Program only to the Common Origination and Disbursement (COD) System using the Student Aid Internet Gateway (SAIG). For both the Federal Pell Grant Program and the Iraq and Afghanistan Service Grant Program, to the COD System using the COD Web site at: www.cod.ed.gov. | Earliest Disbursement Date: January 12, 2012. Earliest Submission Dates: An institution may submit anticipated disbursement information as early as March 10, 2012. An institution may submit actual disbursement information as early as April 16, 2012, but no earlier than: (a) 7 calendar days prior to the disbursement date under the advance payment method;
|  |  | (b) 7 calendar days prior to the disbursement date under the Cash Monitoring #1 payment method; or
|  |  | (c) The date of disbursement under the Reimbursement or Cash Monitoring #2 payment methods.
|  |  | Deadline Submission Dates:¹
|  |  | No later than the earlier of September 30, 2013 or:
|  |  | (a) For disbursements that occur prior to April 1, 2013 an institution is required to submit disbursement information no later than 30 calendar days after the institution makes a disbursement or becomes aware of the need to make an adjustment to previously reported disbursement data.
|  |  | (b) For disbursements that occur on or after April 1, 2013 an institution is required to submit disbursement information no later than 15 calendar days after the institution makes a disbursement or becomes aware of the need to make an adjustment to previously reported disbursement data.
|  |  | Notes:
|  |  | Disbursements made between January 1, 2012 and April 16, 2012 must be reported not later than 30 calendar days after April 16, 2012.
|  |  | Downward adjustments after September 30, 2013 of a previously reported and accepted award or disbursement may be submitted at any time until September 30, 2018.
|  |  | Other disbursement information for submission after September 30, 2013 may be submitted only upon approval of a request for an extension, as specified below.
Institutions | Requests for extensions to the established disbursement submission deadlines may be made for reasons, including, but not limited to: (a) A program review or initial audit finding per 34 CFR 690.83; (b) A late disbursement under 34 CFR 668.164(g); or (c) Disbursements previously blocked as a result of another institution failing to post a downward adjustment. | Via COD Web site at: www.cod.ed.gov | The earlier of: —When the institution is fully reconciled and is ready to submit all additional data for the program and the award year; or —September 30, 2018.
Institutions | Request for administrative relief based on a natural disaster or other unusual circumstance or an administrative error made by the Department | Via COD Web site at: www.cod.ed.gov | The earlier of: —A date designated by the Secretary after consultation with the institution; or —February 1, 2014.
Institutions | Request for administrative relief if a student reenters the institution within 180 days after initially withdrawing and the institution is reporting a disbursement for the student within 15 days of the student's reenrollment but after September 30, 2013.² | Via COD Web site at: www.cod.ed.gov | The earlier of: —15 days after the student reenrolls; or —May 3, 2014.
¹ Transmissions must be completed and accepted before 12:00 (Eastern Time) midnight to meet the deadline. If transmissions are started before 12:00 midnight but are not completed until after 12:00 midnight, those transmissions will not meet the deadline. In addition, any transmission submitted on or just prior to the deadline date that is rejected may not be reprocessed because the deadline will have passed by the time the user gets the information notifying him or her of the rejection.
² Applies only to students enrolled in clock-hour and nonterm credit-hour educational programs.
Note: The COD System must accept origination data for a student from an institution before it accepts disbursement information from the institution for that student. Institutions may submit origination and disbursement data for a student in the same transmission. However, if the origination data is rejected, the disbursement data is rejected.

Table C—William D. Ford Federal Direct Loan (Direct Loan) Program and Teacher Education Assistance for College and Higher Education (TEACH) Grant Program Submission Dates for Disbursement Information by Institutions for the 2012-2013 COD Processing Year ¹
Who submits? | What is submitted? | Where is it submitted? | What are the earliest submission and deadline dates for receipt?
Institutions | At least one acceptable disbursement record must be submitted for each Direct Loan and TEACH Grant recipient at the institution | To the Student Aid Internet Gateway (SAIG) or to the Common Origination and Disbursement (COD) System using the COD Web site at: www.cod.ed.gov. | Earliest Disbursement Date: January 1, 2012. Earliest Submission Dates: An institution may submit anticipated disbursement information as early as March 10, 2012.
|  |  | An institution may submit actual disbursement information as early as March 10, 2012, but no earlier than:
|  |  | (a) 7 calendar days prior to the disbursement date under the advance payment method;
|  |  | (b) 7 calendar days prior to the disbursement date under the Cash Monitoring #1 payment method; or
|  |  | (c) The date of disbursement under the Reimbursement or Cash Monitoring #2 payment methods.
|  |  | Deadline Submission Dates:²
|  |  | For disbursements that occur prior to April 1, 2013 an institution is required to submit disbursement information no later than 30 calendar days after the institution makes a disbursement or becomes aware of the need to make an adjustment to previously reported disbursement data; or For disbursements that occur on or after April 1, 2013 an institution is required to submit disbursement information no later than 15 calendar days after the institution makes a disbursement or becomes aware of the need to make an adjustment to previously reported disbursement data.
|  |  | Note:
|  |  | Disbursements made between January 1, 2012 and March 10, 2012 must be reported not later than 30 calendar days after March 10, 2012.
¹ A COD Processing Year is a period of time in which institutions are permitted to submit Direct Loan and TEACH Grant records to the COD System that are related to a given award year. For a Direct Loan, the period of time includes loans that have a loan period covering any day in the 2012-2013 award year. For a TEACH Grant, the period of time includes an award for a payment period that includes any day in the 2012-2013 award year.
² Transmissions must be completed and accepted before 12:00 (Eastern Time) midnight to meet the deadline. If transmissions are started before 12:00 midnight but are not completed until after 12:00 midnight, those transmissions will not meet the deadline. In addition, any transmission submitted on or just prior to the deadline date that is rejected may not be reprocessed because the deadline will have passed by the time the user gets the information notifying him or her of the rejection.
Note: The COD System must accept origination data for a student from an institution before it accepts disbursement information from the institution for that student. Institutions may submit origination and disbursement data for a student in the same transmission. However, if the origination data is rejected, the disbursement data is rejected.

[FR Doc. 2013-04689 Filed 2-27-13; 8:45 am]

BILLING CODE 4000-01-P]